DEPARTMENT OF ENERGY

Federal Energy Regulatory Commission

[Docket No. RP99-472-002]

Transcontinental Gas Pipe Line Corporation; Notice of Tariff Filing

February 18, 2000.

Take notice that on February 15, 2000, Transcontinental Gas Pipe Line Corporation (Transco) tendered for filing to become part of its FERC Gas Tariff, Third Revised Volume No. 1, Second Substitute Second Revised Sheet No. 135B. The effective date for the tariff sheet is November 1, 1999.

Transco states that the purpose of the filing is to replace an approved tariff sheet which was inadvertently filed without deleting the “strikeout” text from the tariff sheet. In the process of posting the approved tariff sheet on Transco's Online Tariff website, Transco discovered the currently effective sheet was filed incorrectly. The “redline” and “strikeout” text filed on October 15, 1999 on Transco's Redline tariff sheet was filed correctly.

Transco states that the filing submits a revised tariff sheet reflecting the deletion of the strikeout text on the approved tariff sheet.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceeding. Copies of this filing are on file with the Commission and are available for public inspection in the Public Reference Room. This filing may be viewed on the web at http://www.ferc.fed.us/online/rims.htm (call 202-208-2222 for assistance).

David P. Boergers,
Secretary.

[FR Doc. 00-4450 Filed 2-24-00; 8:45 am]

BILLING CODE 6717-01-M